DEPARTMENT OF ENERGY

Federal Energy Regulatory Commission

[Docket No. ER02-1289-001, et al.]

Midwest Independent Transmission System Operator, Inc., et al.; Electric Rate and Corporate Regulation Filings

May 23, 2002.

The following filings have been made with the Commission. The filings are listed in ascending order within each docket classification.

1. Midwest Independent Transmission System Operator, Inc.

[Docket No. ER02-1289-001]

Take notice that on May 21, 2002, the Midwest Independent Transmission System Operator, Inc. (Midwest ISO) and the Midwest ISO Transmission Owners jointly submitted for filing a second substitute page of the Midwest ISO Agreement regarding the implementation of the revenue distribution for revenues from the Regional Through and Out Rate (RTOR) surcharge (RTOR Adder) to Michigan Electric Transmission Company, LLC once it becomes a transmission owner in the Midwest ISO. The second substitute page is intended to correct the lost revenue share of Michigan Electric Transmission's Company's total lost revenues amount, which amount originally contained numbers that were transposed.

The Midwest ISO seeks waiver of the Commission's regulations, 18 CFR 385.2010 (2001), with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: June 11, 2002.

2. Public Service Company of New Mexico

[Docket No. ER02-1847-000]

Take notice that on May 20, 2002, Public Service Company of New Mexico (PNM) submitted for filing an executed copy of a service agreement with Mohave Electric Cooperative, Inc., dated May 1, 2002, for electric energy and/or capacity sales at negotiated market-based rates under PNM's Power and Energy Sales Tariff (FERC Electric Tariff, First Revised volume No. 3).

PNM has requested an effective date of June 1, 2002 for the service agreement. PNM's filing is available for public inspection at its offices in Albuquerque, New Mexico. Copies of this filing have been served upon Mohave Electric Cooperative, Inc., the New Mexico Public Regulation Commission, and the New Mexico Attorney General.

Comment Date: June 10, 2002.

3. Maine Public Service Company

[Docket No. ER02-1848-000]

Take notice that on May 20, 2002, Maine Public Service Company (Maine Public) submitted for filing an executed Service Agreement for Network Integration Transmission Service under Maine Public's open access transmission tariff with Van Buren Light & Power District.

Comment Date: June 10, 2002.

4. Midwest Independent Transmission System Operator, Inc.

[Docket No. ER02-1849-000]

Take notice that on May 21, 2002, Midwest Independent Transmission System Operator, Inc. (Midwest ISO) submitted to the Federal Energy Regulatory Commission (Commission) pursuant to Section 205 of the Federal Power Act and Section 35.13 of the Commission's regulations, Service Agreements for the transmission service requested by Edison Sault Electric Company.

A copy of this filing was sent to Edison Sault Electric Company.

Comment Date: June 11, 2002.

5. Midwest Independent Transmission System Operator, Inc.

[Docket No. ER02-1850-000]

Take notice that on May 21, 2002, Midwest Independent Transmission System Operator, Inc. (Midwest ISO) submitted to the Federal Energy Regulatory Commission (Commission) pursuant to Section 205 of the Federal Power Act and Section 35.13 of the Commission's regulations, Service Agreements for the transmission service requested by Energy America, LLC.

A copy of this filing was sent to Energy America, LLC.

Comment Date: June 11, 2002.

6. Midwest Independent Transmission System Operator, Inc.

[Docket No. ER02-1851-000]

Take notice that on May 21, 2002, Midwest Independent Transmission System Operator, Inc. (Midwest ISO) submitted to the Federal Energy Regulatory Commission (Commission) pursuant to Section 205 of the Federal Power Act and Section 35.13 of the Commission's regulations, Service Agreements for the transmission service requested by Village of Pardeeville.

A copy of this filing was sent to Village of Pardeeville.

Comment Date: June 11, 2002.

7. Midwest Independent Transmission System Operator, Inc.

[Docket No. ER02-1852-000]

Take notice that on May 21, 2002, Midwest Independent Transmission System Operator, Inc. (Midwest ISO) submitted to the Federal Energy Regulatory Commission (Commission) pursuant to Section 205 of the Federal Power Act and Section 35.13 of the Commission's regulations, Service Agreements for the transmission service requested by Village of Georgetown.

A copy of this filing was sent to Village of Georgetown.

Comment Date: June 11, 2002.

8. Midwest Independent Transmission System Operator, Inc.

[Docket No. ER02-1853-000

Take notice that on May 21, 2002, Midwest Independent Transmission System Operator, Inc. (Midwest ISO) submitted to the Federal Energy Regulatory Commission (Commission) pursuant to Section 205 of the Federal Power Act and Section 35.13 of the Commission's regulations, Service Agreements for the transmission service requested by Village of Ripley.

A copy of this filing was sent to Village of Ripley.

Comment Date: June 11, 2002.

9. PacifiCorp

[Docket No. ER02-1854-000]

Take notice that PacifiCorp on May 21, 2002, tendered for filing in accordance with 18 CFR 35 of the Federal Energy Regulatory Commission 's Regulations, a Notice of Filing, and Mutual Netting/Settlement Agreements with El Paso Electric Company.

Copies of this filing were supplied to the Washington Utilities and Transportation Commission and the Public Utility Commission of Oregon.

Comment Date: June 11, 2002.

10. Wisconsin Electric Power Company

[Docket No. ER02-1855-000]

Take notice that Wisconsin Electric Power Company (Wisconsin Electric) on May 21, 2002, tendered for filing a notice of Cancellation effective October 30, 2001 of an Interconnection and Energy Agreement designated as Rate Schedule FERC No. 94 on January 1, 1999 between Wisconsin Electric Power Company and City of Marquette Board of Light and Power.

Comment Date: June 11, 2002.

11. Virginia Electric and Power Company

[Docket No. ER02-1856-000]

Take notice that Virginia Electric and Power Company (the Company) on May 21, 2002, respectfully tendered for filing the Service Agreement by Virginia Electric and Power Company to DTE Energy Trading, Inc. designated as Service Agreement No. 14 under the Company's Wholesale Market-Based Rate Tariff, FERC Electric Tariff, Original Volume No. 6, effective on June 15, 2000.

The Company requests an effective date of April 22, 2002, as requested by the customer. Copies of the filing were served upon DTE Energy Trading, Inc., the Virginia State Corporation Commission, and the North Carolina Utilities Commission.

Comment Date: June 11, 2002.

12. Midwest Independent Transmission System Operator, Inc.

[Docket No. ER02-1857-000]

Take notice that on May 21, 2002, Midwest Independent Transmission System Operator, Inc. (Midwest ISO) submitted to the Federal Energy Regulatory Commission (Commission) pursuant to Section 205 of the Federal Power Act and Section 35.13 of the Commission's regulations, Service Agreements for the transmission service requested by City of St. Charles.

A copy of this filing was sent to City of St. Charles.

Comment Date: June 11, 2002.

Standard Paragraph

E. Any person desiring to intervene or to protest this filing should file with the Federal Energy Regulatory Commission, 888 First Street, N.E., Washington, D.C. 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-13485 Filed 5-29-02; 8:45 am]

BILLING CODE 6717-01-P